DEPARTMENT OF HEALTH AND HUMAN SERVICES

Administration for Children and Families

[Program Announcement No. ACYF-PA-HS-2000-03B]

Fiscal Year 2000 Discretionary Announcement of the Availability of Funds and Request for Applications for Nationwide Expansion Competition of Early Head Start; Correction

AGENCY: Administration for Children, Youth and Families, ACF, DHHS.

ACTION: Correction.

SUMMARY: This document contains a correction to the Notice that was published in the Federal Register on Tuesday, February 29, 2000.

On page 10797, in the State of Colorado, Arapahoe County, in the local community column the following service area should be added: Colfax Avenue (county line) on the North, Mississippi Avenue on the South, Chambers Road on the East and Yosemite Street (county line) on the West. This area is currently being served and is not open for competition to new Early Head Start programs. The remaining part of Arapahoe County is not currently being served and is open to competition to new Early Head Start programs.

On page 10797, in the State of Colorado, in Denver County, in the local community column for the city of Denver, after the service areas numbered (1)-(4), the following service areas should be added in the city of Denver: “(5) the area bounded by 52nd Avenue on the North, Alameda Boulevard on the South, Broadway Avenue on the East and Sheridan Boulevard on the West.” “(6) Beginning at north Broadway and 38th avenue, go east to Yosemite; Yosemite south to 11th Avenue, 11 Avenue west to Quebec; Quebec south to Hampden, Hampden west to Broadway; Broadway north to 35th Avenue.” “(7) Beginning at north 54th Avenue and Peoria, go 54th east to Chambers; Chambers south to I-70, I-70 West to Peoria, Peoria north to 54th Avenue.“ These three areas (5) (6) and (7) are currently being served in the city of Denver in addition to service areas (1) through (4). These seven service areas in the city of Denver are not open to competition to new Early Head Start programs.

On page 10802, of the State of Minnesota, Hennepin County, in the local community column delete “City of North Minneapolis” and replace with “Minneapolis, Brooklyn Park, Golden Valley, and Richfield.”

FOR FURTHER INFORMATION CONTACT: The ACYF Operations Center at 1-800-351-2293 or send an email to ehs@lcgnet.com. You can also contact Judith Jerald, Early Head Start, Head Start Bureau at (202) 205-8074.

Dated: April 20, 2000.
Patricia Montoya,
Commissioner, Administration on Children, Youth and Families.

[FR Doc. 00-10378 Filed 4-25-00; 8:45 am]

BILLING CODE 4184-01-M